DEPARTMENT OF THE INTERIOR

Fish and Wildlife Service

Intent To Prepare a Comprehensive Conservation Plan and Associated Environmental Document for Kirwin National Wildlife Refuge in North-central Kansas

AGENCY: Fish and Wildlife Service, Interior.

ACTION: Notice of intent.

SUMMARY: The U.S. Fish and Wildlife Service intends to gather information necessary to prepare a Comprehensive Conservation Plan and associated environmental document for Kirwin National Wildlife Refuge near Phillipsburg, Kansas. The Service is issuing this notice in compliance with its policy to advise other organizations and the public of its intentions and to obtain suggestions and information on the scope of issues to be considered in the planning process.

DATES: Written comments should be received by August 31, 2003.

ADDRESSES: Comments and requests for more information should be sent to: Toni Griffin, Planning Team Leader, P.O. Box 25486, Denver Federal Center, Denver, CO 80225-0486; Fax (303) 236-4792; e-mail toni_griffin@fws.gov.

FOR FURTHER INFORMATION CONTACT: Toni Griffin, Planning Team Leader, P.O. Box 25486, Denver Federal Center, Denver, CO 80225-0486; Fax (303) 236-4792; e-mail toni_griffin@fws.gov.

SUPPLEMENTARY INFORMATION: The Service has initiated comprehensive conservation planning for Kirwin National Wildlife Refuge for the conservation and enhancement of its natural resource. This Refuge, consisting of 10,778 acres is located in the rolling hills and narrow valley of the North Fork of the Solomon River in Phillips county, Kansas.

Kirwin National Refuge was established in 1954 as an overlay project on a Bureau of Reclamation irrigation and flood control reservoir. “* * * shall be administered by him (Secretary of the Interior) directly or in accordance with cooperative agreements * * * and in accordance with such rules and regulations for the conservation, maintenance, and management of wildlife, resources thereof, and its habitat thereon, * * *.” 16 U.S.C. 715d (Fish and Wildlife Coordination Act). During the comprehensive planning process, management goals, objectives, and strategies will be developed to carry out the purpose of the Refuge and to comply with laws and policies governing refuge management and public use of refuges. Kirwin National Wildlife Refuge is open to public use.

The Service requests input as to which issues affecting management or public use should be addressed during the planning process. The Service is especially interested in receiving public input in the following areas:

—What do you value most about this Refuge?

—What problems or issues do you see affecting management or public use of this Refuge?

—What changes, if any, would you like to see in the management of this Refuge?

The Service has provided the above questions for your optional use. The Service has no requirement that you provide information. The Planning Team developed these questions to facilitate gathering information about individual issues and ideas. Comments received by the Planning Team will be used as part of the planning process.

Opportunities for public input will also be provided at public meetings during the week of May 19, 2003. Exact dates and times for these public meetings are yet to be determined, but will be announced via local media.

All information provided voluntarily by mail, phone, or at public meetings (e.g., names, addresses, letters of comment, input recorded during meetings) becomes part of the official public record. If requested under the Freedom of Information Act by a private citizen or organization, the Service may provide copies of such information.

The environmental review of this project will be conducted in accordance with the requirements of the National Environmental Policy Act of 1969, as amended (42 U.S.C. 4321 et seq.), NEPA Regulations (40 CFR 1500-1508), other appropriate Federal laws and regulations, Executive Order 12996, the National Wildlife Refuge System Improvement Act of 1997, and Service policies and procedures for compliance with those regulations.

Dated: March 3, 2003.
John A. Blankenship,
Deputy Regional Director, Denver, Colorado.

[FR Doc. 03-6783 Filed 3-20-03; 8:45 am]

BILLING CODE 4310-55-P